DEPARTMENT OF LABOR

Employment and Training Administration

[TA-W-72,855]

Barnstead Thermolyne Corporation, a Subsidiary of Thermo Fisher Scientific, Including On-Site Leased Workers From Sedona Staffing and Per Mar, Dubuque, IA; Amended Certification Regarding Eligibility To Apply for Worker Adjustment Assistance

In accordance with Section 223 of the Trade Act of 1974, as amended (“Act”), 19 U.S.C. 2273, the Department of Labor issued a Certification of Eligibility to Apply for Worker Adjustment Assistance on February 22, 2010, applicable to workers of Barnstead Thermolyne Corporation, a subsidiary of Thermo Fisher Scientific, including on-site leased workers from Sedona Staffing, Dubuque, Iowa. The notice was published in the Federal Register on April 23, 2010 (75 FR 21361).

At the request of a State agency, the Department reviewed the certification for workers of the subject firm. The workers are engaged in activities related to the production of scientific laboratory equipment.

New information shows that workers leased from Per Mar were employed on-site at the Dubuque, Iowa location of Barnstead Thermolyne Corporation, a subsidiary of Thermo Fisher Scientific. The Department has determined that these workers were sufficiently under the control of the subject firm to be considered leased workers.

Based on these findings, the Department is amending this certification to include workers leased from Per Mar working on-site at the Dubuque, Iowa location of Barnstead Thermolyne Corporation, a subsidiary of Thermo Fisher Scientific.

The amended notice applicable to TA-W-72,855 is hereby issued as follows:

All workers of Barnstead Thermolyne Corporation, including on-site leased workers from Sedona Staffing and Per Mar, Dubuque, Iowa, who became totally or partially separated from employment on or after November 11, 2008, through February 22, 2012 and all workers in the group threatened with total or partial separation from employment on the date of certification through two years from the date of certification, are eligible to apply for adjustment assistance under Chapter 2 of Title II of the Trade Act of 1974, as amended.

Signed at Washington, DC, this 16th day of September 2010.
Elliott S. Kushner,
Certifying Officer, Division of Trade Adjustment Assistance.

[FR Doc. 2010-25398 Filed 10-7-10; 8:45 am]

BILLING CODE 4510-FN-P